DEPARTMENT OF AGRICULTURE

Forest Service

Coordinated Resource Offering Protocol (CROP) Meeting

AGENCY: Forest Service, USDA.

ACTION: Notice of meeting.

SUMMARY: The Coordinated Resource Offering Protocol (CROP) participants will meet in Salt Lake City, UT, from July 17-19, 2007. The purpose of the meeting is to engage participants on CROP information gathered, analyzed, and used. The meeting will include a public input session from July 17, 1 p.m. until 5 p.m. through July 19, until 3 p.m.

DATES: The Salt Lake City, UT meeting will be held from July 17-19, 2007.

ADDRESSES: The July 17-19 meeting will be held at the Red Lion Hotel (downtown), 161 West 600 South, Salt Lake City, UT.

FOR FURTHER INFORMATION CONTACT: Edmund A. Gee, National Woody Biomass Utilization Team Leader, 202-205-1787 or via e-mail at eagee@fs.fed.us. Individuals who use telecommunication devices for the deaf (TDD) may call the Federal Information Relay Service (FIRS) at 1-800-877-8339 between 8 a.m. and 8 p.m., Eastern Standard Time, Monday through Friday.

SUPPLEMENTARY INFORMATION: Under Title II of Sections 201-203 of the Healthy Forests Restoration Act (HFRA) of 2003 (Pub. L. 108-148) provides the authority to obtain information that will help overcome barriers to the production and use of biomass and help communities and businesses create economic opportunity through sustainable use of the Nation's forest resources. CROP is a new biomass removal model employed on 10 pilot biomass projects across the United States. The projects incorporate proposed 5-year removal data from 36 national forests, 105 ranger districts, 41 BLM districts, and multiple natural resource agencies located in 15 states across the United States. CROP is intended to:

• Coordinate and levelize sustainable removals of biomass between public agencies in each CROP landscape;

• Facilitate the use of long-term multi-agency stewardship contracts;

• Heighten environmental and public trust in coordinated, sustainable biomass removal;

• Increase the ‘surety’ of annual biomass removal contracts from public agencies; and

• Invite investment back into our Nation's forest landscapes based on sustainable removals of woody biomass.

Meeting agenda items will specifically focus on (1) reviewing completed CROP results for all 10 geographic pilot areas and (2) securing collaborative, coordinated, and cooperative input from agency personnel and stakeholders regarding CROP deliverables, on-the-ground annual performance, and monitoring protocols. Agenda items will also detail new collaborative contracting provisions and authority that might be used in CROP landscapes; identify lessons learned during the CROP pilots; target any changes required to make CROP a better forest restoration tool; and define CROP data update and contracting protocols that could be initiated in the next 6-12 months.

Dated: June 25, 2007.
Gloria Manning,
Associate Deputy Director, National Forest System.

[FR Doc. E7-12623 Filed 6-28-07; 8:45 am]

BILLING CODE 3410-11-P